DEPARTMENT OF ENERGY

Federal Energy Regulatory Commission

Combined Notice of Filings #1

March 27, 2007.

Take notice that the Commission received the following electric corporate filings:

Docket Numbers: EC06-166-000.

Applicants: Legg Mason, Inc.

Description: Legg Mason Inc submits its amended and restated application for blanket authorization to acquire utility and/or holding company securities.

Filed Date: 03/21/2007.

Accession Number: 20070327-0097.

Comment Date: 5 p.m. Eastern Time on Wednesday, April 04, 2007.

Take notice that the Commission received the following electric rate filings:

Docket Numbers: ER04-374-005.

Applicants: Invenergy TN LLC.

Description: Invenergy TN LLC submits its triennial market power analysis update.

Filed Date: 03/23/2007.

Accession Number: 20070326-0016

Comment Date: 5 p.m. Eastern. Time on Friday, April 13, 2007.

Docket Numbers: ER06-311-003.

Applicants: New York Independent System Operator, Inc.

Description: New York Independent System Operator, Inc and New York Transmission Owners submits joint compliance filing pursuant to FERC's 2/20/07 Orders et al which established pro forma Small Generation Interconnection Procedures, ER06-311.

Filed Date: 03/22/2007.

Accession Number: 20070326-0026.

Comment Date: 5 p.m. Eastern Time on Thursday, April 12, 2007.

Docket Numbers: ER07-336-001.

Applicants: San Diego Gas & Electric Company.

Description: San Diego Gas & Electric correction to Compliance Filing.

Filed Date: 03/22/2007.

Accession Number: 20070322-5045.

Comment Date: 5 p.m. Eastern Time on Monday, April 2, 2007.

Docket Numbers: ER07-639-000.

Applicants: AEP Generating Company.

Description: American Electric Power Service Corporation submits Unit Power Agreement under which AEP Generating Co proposes to sell all of the capacity and associated energy, & ancillary services from MW Lawrenceburg generating plant etc.

Filed Date: 03/16/2007.

Accession Number: 20070321-0062.

Comment Date: 5 p.m. Eastern Time on Friday, April 06, 2007.

Docket Numbers: ER07-646-000.

Applicants: Arizona Public Service Company.

Description: Arizona Public Service Company submits an executed transmission Interconnection Agreement with Southwest Transmission Cooperative, Inc.

Filed Date: 03/23/2007.

Accession Number: 20070326-0015.

Comment Date: 5 p.m. Eastern Time on Friday, April 13, 2007.

Take notice that the Commission received the following foreign utility company status filings:

Docket Numbers: FC07-19-000.

Applicants: Terasen Gas Inc.

Description: Terasen Gas Inc. submits a Notice of Self-Certification of Foreign Utility Company Status.

Filed Date: 03/26/2007.

Accession Number: 20070326-5035.

Comment Date: 5 p.m. Eastern Time on Monday, April 16, 2007.

Docket Numbers: FC07-20-000.

Applicants: Terasen Gas (Vancouver Island) Inc.

Description: Terasen Gas (Vancouver Island) Inc. submits a notice of Self-Certification of Foreign Utility Company Status.

Filed Date: 03/26/2007.

Accession Number: 20070326-5035.

Comment Date: 5 p.m. Eastern Time on Monday, April 16, 2007.

Take notice that the Commission received the following electric reliability filings:

Docket Numbers: RR07-10-000.

Applicants: North American Electric Reliability Corporation.

Description: North American Electric Reliability Corporation submits for FERC's approval proposed violation risk factors for requirements in Version 1 reliability standards included in its reliability standards approved by Order 693.

Filed Date: 03/23/2007.

Accession Number: 20070327-0162.

Comment Date: 5 p.m. Eastern Time on Monday, April 23, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Philis J. Posey,
Acting Secretary.

[FR Doc. E7-6006 Filed 3-30-07; 8:45 am]

BILLING CODE 6717-01-P